DEPARTMENT OF HEALTH AND HUMAN SERVICES

Administration for Children and Families

Proposed Information Collection Activity; Comment Request

Title: Evaluation of the Head Start Designation Renewal System.

OMB No.: New Collection.

Description: In the fall of 2011, the Administration for Children and Families (ACF) within the US Department of Health and Human Services (HHS) significantly expanded its accountability provisions with the implementation of the Head Start Designation Renewal System (DRS). The DRS is designed to identify which Head Start and Early Head Start grantees are providing high quality, comprehensive services to the children and families in their communities. Where they are not, grantees are denied automatic renewal of their grant and must apply for continuing funding through an open competition process. Determinations are based on seven conditions designed to measure service quality, program operational quality, and fiscal and internal integrity.

The ACF is proposing to conduct an evaluation of the DRS. The purpose of the evaluation is to understand if the DRS is working as intended, as a valid, reliable, and transparent method for identifying high-quality programs that can receive continuing five-year grants without competition and as a system that encourages overall program quality improvement. It also seeks to understand how the system is working, the circumstances in which it works more or less well, and the contextual, demographic, and program factors and program actions associated with how well the system is working. The study will employ a mixed-methods design that integrates and layers administrative and secondary data sources, observational measures, and interviews to develop a rich knowledge base about what the DRS accomplishes and how it does so.

Respondents: Head Start program directors; other program managers including grantee agency directors, center directors, and education services coordinators; Head Start teachers; and members of Head Start governing bodies and local policy councils.

Annual Burden Estimates
Instrument | Total number of respondents | Number of responses per respondent | Average burden hours per response | Total burden hours | Annual burden hours
Quality Measures Follow Up Interview: Teachers | 830 | 1 | 0.4 | 332 | 166
Quality Measures Follow Up Interview: Center Directors | 350 | 1 | 1.5 | 525 | 263
Quality Measures Follow Up Interview: Program Directors | 70 | 1 | 1.1 | 77 | 39
DRS Telephone Interview: Program Directors | 35 | 1 | 1.25 | 44 | 22
DRS In-Depth Interview: Agency Directors | 15 | 1 | 1 | 15 | 8
DRS In-Depth Interview: Program Directors | 15 | 1 | 1.5 | 23 | 12
DRS In-Depth Interview: Policy Council/Governing Body | 75 | 1 | 1.5 | 113 | 57
DRS In-Depth Program Managers | 45 | 1 | 1.5 | 68 | 34
Competition In-Depth Interview: Agency and Program Directors | 18 | 1 | 1.25 | 23 | 12
Competition In-Depth Interview: Policy Council/Governing Body | 45 | 1 | 1.5 | 68 | 34
Competition In-Depth Interview: Program Managers | 27 | 1 | 1.5 | 41 | 21
Competition Data Capture Sheet | 500 | 1 | 0.15 | 75 | 38
Estimated Total Annual Burden Hours |  |  |  |  | 706

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2013-13716 Filed 6-10-13; 8:45 am]

BILLING CODE 4184-22-P